DEPARTMENT OF THE INTERIOR

Fish and Wildlife Service

[Docket No. FWS-HQ-IA-2017-0037; FXIA16710900000-156-FF09A30000]

Foreign Endangered Species; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA).

ADDRESSES: Documents and other information submitted with these applications are available for review, subject to the requirements of the Privacy Act and Freedom of Information Act, by any party who submits a written request for a copy of such documents to the U.S. Fish and Wildlife Service, Division of Management Authority, Branch of Permits, MS: IA, 5275 Leesburg Pike, Falls Church, VA 22041; fax (703) 358-2281. To locate the Federal Register notice that announced our receipt of the application for each permit listed in this document, go to www.regulations.gov and search on the permit number provided in the tables in SUPPLEMENTARY INFORMATION.

FOR FURTHER INFORMATION CONTACT: Joyce Russell, (703) 358-2023 (telephone); (703) 358-2281 (fax); or DMAFR@fws.gov (email).

SUPPLEMENTARY INFORMATION: On the dates below, as authorized by the provisions of the ESA, as amended (16 U.S.C. 1531 et seq.), we issued requested permits subject to certain conditions set forth therein. For each permit for an endangered species, we found that (1) the application was filed in good faith, (2) the granted permit would not operate to the disadvantage of the endangered species, and (3) the granted permit would be consistent with the purposes and policy set forth in section 2 of the ESA.

Endangered Species
Permit No. | Applicant | Receipt of application Federal Register notice | Permit issuance date
12500C | Charles Waibel | 82 FR 4914; January 17, 2017 | 4/13/2017
06382C | Richard Killion | 82 FR 4914; January 17, 2017 | 4/13/2017
15671C | New Mexico State University/Timothy F. Wright | 82 FR 4914; January 17, 2017 | 3/27/2017
93065B | University of South Carolina | 81 FR 63788; September 16, 2016 | 1/12/2017
209142 | Adalgisa Caccone | 82 FR 14742; March 22, 2017 | 4/25/2017
13615C | Stevens Forest Ranch | 82 FR 13486; March 13, 2017 | 05/01/17

Authority: We issue this notice under the authority of the ESA, as amended (16 U.S.C. 1531 et seq.).

Joyce Russell,
Government Information Specialist, Branch of Permits, Division of Management Authority.

[FR Doc. 2017-14535 Filed 7-11-17; 8:45 am]

BILLING CODE 4333-15-P